DEPARTMENT OF TRANSPORTATION

Federal Aviation Administration

14 CFR Part 39

[Docket No. FAA-2017-0061; Directorate Identifier 2016-SW-005-AD; Amendment 39-18934; AD 2017-13-04]

RIN 2120-AA64

Airworthiness Directives; Airbus Helicopters Deutschland GmbH Helicopters

AGENCY: Federal Aviation Administration (FAA), DOT.

ACTION: Final rule.

SUMMARY: We are adopting a new airworthiness directive (AD) for Airbus Helicopters Deutschland GmbH (Airbus Helicopters) Model MBB-BK 117 C-2 (including configuration C-2e) and MBB-BK 117 D-2 helicopters. This AD requires replacing the main rotor (M/R) blade vibration absorbers. This AD was prompted by a report of strong M/R blade vibrations on a Model MBB-BK 117 C-2 helicopter. The actions of this AD are intended to prevent an unsafe condition on these products.

DATES: This AD is effective July 27, 2017.

The Director of the Federal Register approved the incorporation by reference of certain documents listed in this AD as of July 27, 2017.

ADDRESSES: For service information identified in this final rule, contact Airbus Helicopters, 2701 N. Forum Drive, Grand Prairie, TX 75052; telephone (972) 641-0000 or (800) 232-0323; fax (972) 641-3775; or at http://www.airbushelicopters.com/website/en/ref/Technical-Support_73.html. You may review the referenced service information at the FAA, Office of the Regional Counsel, Southwest Region, 10101 Hillwood Pkwy., Room 6N-321, Fort Worth, TX 76177. It is also available on the Internet at http://www.regulations.gov by searching for and locating Docket No. FAA-2017-0061.

Examining the AD Docket

You may examine the AD docket on the Internet at http://www.regulations.gov by searching for and locating Docket No. FAA-2017-0061; or in person at the Docket Operations Office between 9 a.m. and 5 p.m., Monday through Friday, except Federal holidays. The AD docket contains this AD, the European Aviation Safety Agency (EASA) ADs, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy., Fort Worth, TX 76177; email matthew.fuller@faa.gov.

SUPPLEMENTARY INFORMATION:

Discussion

On February 17, 2017, at 82 FR 10978, the Federal Register published our notice of proposed rulemaking (NPRM), which proposed to amend 14 CFR part 39 by adding an AD that would apply to Airbus Helicopters Model MBB-BK 117 C-2 (including configuration C-2e) and Model MBB-BK 117 D-2 helicopters with an M/R blade vibration absorber spacer part number (P/N) 117-801841.11 installed. The NPRM proposed to require replacing the M/R blade vibration absorbers. The proposed requirements were intended to prevent damage to a bearing in an M/R blade vibration absorber. Such damage could result in failure of the bearing, possibly resulting in the loss of balls and damage to the helicopter and injury to persons on the ground.

The NPRM was prompted by AD No. 2016-0002, dated January 4, 2016, issued by EASA, which is the Technical Agent for the Member States of the European Union, to correct an unsafe condition for Airbus Helicopters Model MBB-BK 117 C-2, MBB-BK 117 C-2e, MBB-BK 117 D-2, and Model MBB-BK 117 D-2m helicopters. EASA advises of damaged bearings that if not corrected, could lead to the loss of balls from the ball bearing while the M/R blade is turning, possibly resulting in damage to the helicopter and injury to persons on the ground. To address this unsafe condition, EASA requires replacing the spacers with flanged spacers in the M/R blade vibration absorber and re-identifying the vibration absorber and M/R blade.

Comments

We gave the public the opportunity to participate in developing this AD, but we received no comments on the NPRM.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Interim Action

We consider this AD to be an interim action. The design approval holder is currently developing a modification that will address the unsafe condition identified in this AD. Once this modification is developed, approved, and available, we might consider additional rulemaking.

Differences Between This AD and the EASA AD

The EASA AD requires replacing the M/R blade vibration absorber spacers within 12 months after the effective date of the EASA AD. This AD requires the replacement within 200 hours TIS. The EASA AD applies to Airbus Helicopters Model MBB-BK 117 D-2m helicopters. This AD does not because Model MBB-BK 117 D-2m helicopters have no FAA type certificate.

Related Service Information Under 1 CFR Part 51

We reviewed Airbus Helicopters Alert Service Bulletin (ASB) MBB-BK117 C-2-62A-009 for Model MBB-BK 117 C-2 and C-2e helicopters and ASB MBB-BK117 D-2-62A-001 for Model MBB-BK 117 D-2 and D-2m helicopters. The ASBs, both Revision 1 and both dated October 28, 2015, specify replacing the vibration absorber spacers with flanged spacers to prevent the balls from escaping from the ball bearings. The ASBs also provide procedures for re-identifying the M/R blade and vibration absorber.

This service information is reasonably available because the interested parties have access to it through their normal course of business or by the means identified in the ADDRESSES section.

Costs of Compliance

We estimate that this AD affects 136 helicopters of U.S. Registry and that labor costs average $85 per work-hour. Based on these estimates, we expect that modifying the M/R blade vibration absorber spacers and re-identifying the parts require 4 work-hours and parts cost about $1,439, for a total cost of $1,779 per helicopter and $241,944 for the U.S. fleet. The cost of recording the new P/N is minimal.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-13-04 Airbus Helicopters Deutschland GmbH (Airbus Helicopters): Amendment 39-18934; Docket No. FAA-2017-0061; Directorate Identifier 2016-SW-005-AD.

(a) Applicability

This AD applies to Airbus Helicopters Model MBB-BK 117 C-2 (including configuration C-2e) and Model MBB-BK 117 D-2 helicopters with a main rotor (M/R) blade vibration absorber spacer part number (P/N) 117-801841.11 installed, certificated in any category.

(b) Unsafe Condition

This AD defines the unsafe condition as damage to a bearing in an M/R blade vibration absorber. This condition could result in failure of the bearing, possibly resulting in the loss of the balls and damage to the helicopter and injury to persons on the ground.

(c) Effective Date

This AD becomes effective July 27, 2017.

(d) Compliance

You are responsible for performing each action required by this AD within the specified compliance time unless it has already been accomplished prior to that time.

(e) Required Actions

(1) Within 200 hours time-in-service:

(i) Replace each spacer on the vibration absorber with a flanged spacer.

(ii) Re-identify each vibration absorber and M/R blade in accordance with paragraphs 3.B.2.3. or 3.B.2.4, as applicable, of Airbus Helicopters Alert Service Bulletin (ASB) MBB-BK117 C-2-62A-009, Revision 1, dated October 28, 2015, or ASB MBB-BK117 D-2-62A-001, Revision 1, dated October 28, 2015, whichever applies to your model helicopter. Record the new P/Ns and serial numbers for each M/R blade on the component history card or equivalent record.

(2) After replacing the spacer in accordance with paragraph (e)(1) of this AD, do not install M/R blade P/N B621M1002103 or P/N D621M1002101, vibration absorber P/N B621M3001101, or spacer P/N 117-801841.11 on that helicopter. You may install M/R blade P/N B621M1002101 or P/N B621M1002102 provided you have complied with the requirements of paragraph (e)(1) of this AD.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, Texas 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2015-0045, dated March 13, 2015, and corrected April 2, 2015, and in EASA AD No. 2016-0002, dated January 4, 2016. You may view the EASA ADs on the Internet at http://www.regulations.gov in Docket No. FAA-2017-0061.

(h) Subject

Joint Aircraft Service Component (JASC) Code: 6200, Main Rotor System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin MBB-BK117 C-2-62A-009, Revision 1, dated October 28, 2015.

(ii) Airbus Helicopters Alert Service Bulletin MBB-BK117 D-2-62A-001, Revision 1, dated October 28, 2015.

(3) For Airbus Helicopters service information identified in this AD, contact Airbus Helicopters, 2701 N. Forum Drive, Grand Prairie, TX 75052; telephone (972) 641-0000 or (800) 232-0323; fax (972) 641-3775; or at http://www.airbushelicopters.com/website/en/ref/Technical-Support_73.html.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on June 6, 2017.
Scott A. Horn,
Acting Manager, Rotorcraft Directorate, Aircraft Certification Service.

[FR Doc. 2017-12800 Filed 6-21-17; 8:45 am]

BILLING CODE 4910-13-P